SECURITIES AND EXCHANGE COMMISSION

[Investment Company Act Release No. 35210A]

Deregistration Under the Investment Company Act of 1940

May 31, 2024.

Correction

In notice document 2024-12360, beginning on pages 48453-48458, in the issue of Thursday, June 6, 2024, make the following corrections:

1. On page 48457, in the first column, in the 20th and 21st lines, under the heading “Stone Ridge Longevity Risk Premium Fixed Income Trust 78F” “811-23549” is corrected to read: “811-23551”.

2. On the same page, in the same column, in the 38th and 39th lines under the heading “Stone Ridge Longevity Risk Premium Fixed Income Trust 78M” “811-23551” is corrected to read: “811-23549”.

[FR Doc. C1-2024-12360 Filed 6-11-24; 8:45 am]

BILLING CODE 0099-10-P